DEPARTMENT OF JUSTICE

Antitrust Division

Notice Pursuant to the National Cooperative Research and Production Act of 1993—Spoken Dialogue Interfaces for Cars

Notice is hereby given that, on July 14, 2003, pursuant to Section 6(a) of the National Cooperative Research and Production Act of 1993, 15 U.S.C. 4301 et seq. (“the Act”), Spoken Dialogue Interfaces for Cars has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to Section 6(b) of the Act, the identities of the parties are Robert Bosch Corporation, Research and Technology Center, Palo Alto, CA; and Volkswagen of America Inc., Electronic Research Lab, Pala Alto, CA. The nature and objectives of the venture are to develop and demonstrate a next generation language dialog system for the convenient and safe operation of in-car devices and services.

Dorothy B. Fountain,
Deputy Director of Operations, Antitrust Division.

[FR Doc. 03-22757 Filed 9-5-03; 8:45 am]

BILLING CODE 4410-11-M